DEPARTMENT OF THE INTERIOR

National Park Service

[NPS-WASO-NAGPRA-NPS0031208; PPWOCRADN0-PCU00RP14.R50000]

Notice of Inventory Completion: Department of the Navy, Navy Region Southeast, Jacksonville, FL

AGENCY: National Park Service, Interior.

ACTION: Notice.

SUMMARY: The Department of the Navy, Navy Region Southeast, has completed an inventory of human remains, in consultation with the appropriate Indian Tribes or Native Hawaiian organizations, and has determined that there is no cultural affiliation between the human remains and any present-day Indian Tribes or Native Hawaiian organizations. Representatives of any Indian Tribe or Native Hawaiian organization not identified in this notice that wish to request transfer of control of these human remains should submit a written request to the Department of the Navy, Navy Region Southeast. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Department of the Navy, Navy Region Southeast, at the address in this notice by January 4, 2021.

ADDRESSES: Dr. John Calabrese, Navy Region Southeast, Naval Air Station Jacksonville, Building 135N, Jacksonville, FL 32212, telephone (904) 542-6985, email john.calabrese@navy.mil.

SUPPLEMENTARY INFORMATION: Notice is here given in accordance with the Native American Graves Protection and Repatriation Act (NAGPRA), 25 U.S.C. 3003, of the completion of an inventory of human remains under the control of the United States Navy, Navy Region Southeast, Jacksonville, FL. The human remains were removed from Naval Submarine Base Kings Bay, Camden County, GA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Department of the Navy, Navy Region Southeast professional staff in consultation with representatives of the Cherokee Nation; Eastern Band of Cherokee Indians; Miccosukee Tribe of Indians; Poarch Band of Creeks (previously listed as Poarch Band of Creek Indians of Alabama); Seminole Tribe of Florida (previously listed as Seminole Tribe of Florida (Dania, Big Cypress, Brighton, Hollywood & Tampa Reservations)); The Chickasaw Nation; The Muscogee (Creek) Nation; The Seminole Nation of Oklahoma; Thlopthlocco Tribal Town; and the United Keetoowah Band of Cherokee Indians in Oklahoma (hereafter referred to as “The Consulted Tribes”).

History and Description of the Remains

Between 1979 and 1986, human remains representing, at minimum, 10 individuals were removed from the following seven sites in Camden County, GA: Kings Bay Site (9CM171); Kings Bay Site (9CM171B); Kings Bay Site, Poisonberry Area (9CM171A); Devils Walking Stick, South Bunker Area (9CM177B); Kings Bay Planation Site, Area 1 (9CM172); Kings Bay Planation Site, South Trunk Line Area (9CM172); and Kings Bay Site, Wharf Area (9CM171J). All archeological materials from these investigations, including the human remains, were initially curated at the University of Florida, Florida Museum of Natural History, in Gainesville, FL. In May 2000, they were transferred to the United States Army Corps of Engineers, Mandatory Center of Expertise for the Curation and Management of Archaeological Collections in St. Louis, MO. In September 2002, the human remains were transferred to Naval Submarine Base Kings Bay, and the other materials were sent to the University of Georgia, Athens Laboratory of Archaeology for permanent curation. In March 2017, the human remains were transferred to Navy Region Southeast in Jacksonville, FL.

Kings Bay Site (9CM171)

In 1979, human remains representing, at minimum, one individual, were recovered under the direction of the Department of Anthropology, University of Florida through a contract with the United States Navy. The human remains belong to an adult of undetermined sex. No known individual was identified. No associated funerary objects are present. The human remains were removed from trenched spoil. Late Archaic (3,000 to 1,000 B.C.) St. Simons fiber-tempered ceramics and Swift Creek Complicated Stamp pottery (A.D. 300 to 900) were recovered from the site.

Kings Bay Site (9CM171B)

Between November 1979 and February 1980, human remains representing, at minimum, one individual, were excavated under the direction of the Department of Anthropology, University of Florida through a contract with the United States Navy. The human remains belong to a female. No known individual was identified. No associated funerary objects are present. The human remains were removed from an articulated burial. A single radiocarbon assay from the surrounding soil dates between A.D. 625 and 1020, and the fragmentary ceramic assemblage from the surrounding soil indicates a generalized St. Johns period component.

Kings Bay Site, Poisonberry Area (9CM171A)

In 1981, human remains representing, at minimum, one individual, were excavated under the direction of the Department of Anthropology, University of Florida through a contract with the United States Navy. The human remains comprise two tooth fragments (an incisor crown and a molar crown). No known individual was identified. No associated funerary objects are present. The human remains were found in a shell midden with a predominantly Swift Creek (Late Woodland, A.D. 300 to 900) component.

Devils Walking Stick, South Bunker Area (9CM177B)

In 1981, human remains representing, at minimum, one individual, were excavated under the direction of the Department of Anthropology, University of Florida through a contract with the United States Navy. The human remains comprise a single tooth crown. No known individual was identified. No associated funerary objects are present. The human remains were recovered from a midden deposit. While the excavation records are too imprecise to place the human remains in a specific prehistoric component, the site itself dates to the Savannah (A.D. 900-1550) and Protohistoric (A.D. 1550+) Periods.

Kings Bay Planation Site, Area 1 (9CM172)

In 1984, human remains representing, at minimum, three individuals were recovered by a professional archeologist under contract to the United States Navy. The human remains belong to two adults and one adolescent. No known individuals were identified. No associated funerary objects are present. The human remains were removed from the ground surface of a highly disturbed former shell midden during archeological monitoring for a building foundation and a utility trench. The midden contained a combination of Woodland (Deptford and Swift Creek, 800 B.C.-A.D. 900) and Mississippian (Savannah and Irene/San Marcos, A.D. 900-1540) components.

Kings Bay Planation Site, South Trunk Line Area (9CM172)

In 1984, human remains representing, at minimum, two individuals were recovered by a professional archeologist under contract to the United States Navy. The human remains belong to two adult males. No known individuals were identified. No associated funerary objects are present. The human remains were removed from measured test unit excavations undertaken after suspected human remains were inadvertently discovered during a waterline trench excavation. While no cultural components were directly associated with the human remains, the site itself produced both Woodland (Weeden Island Deptford, Weeden Island and Swift Creek, 800 B.C.-A.D. 900) and Mississippian (Savannah, A.D. 900 to 1350) components.

Kings Bay Site, Wharf Area (9CM171J)

In 1986, human remains representing, at minimum, one individual were excavated by a professional archeologist under contract to the United States Navy, Naval Submarine Base Kings Bay. The incomplete skeletal remains belong to an adult of undetermined sex. No known individual was identified. No associated funerary objects are present. The human remains were recovered from a shell midden during the expansion of the wharf. When found, the human remains were in a flexed position, and in conjunction with a single diagnostic ceramic fragment from the larger Weeden Island Period (A.D. 300 to 900).

Determinations Made by the Department of the Navy, Navy Region Southeast

Officials of the Department of the Navy, Navy Region Southeast have determined that:

• Pursuant to 25 U.S.C. 3001(9), the human remains described in this notice are Native American based on their recovery from prehistoric archeological sites.

• Pursuant to 25 U.S.C. 3001(9), the human remains described in this notice represent the physical remains of 10 individuals of Native American ancestry.

• Pursuant to 25 U.S.C. 3001(2), a relationship of shared group identity cannot be reasonably traced between the Native American human remains and any present-day Indian Tribe.

• At the time of the early colonial period, the area encompassing Naval Submarine Base Kings Bay was occupied by the Timucua, a Muskogean (or, alternatively, a Siouan or Arawakan-speaking) group (Milanich 2004). After 1595, with the expansion of the Spanish mission system in La Florida, the Timucua became actively subject to the Spanish Crown. By the early 18th century a combination of disease, forced relocation by the Spanish, and enslavement had reduced the Timucua population to a few hundred. The reduction of Timucua numbers between the 16th and 18th centuries allowed for the expansion of other Muskogean peoples into the region. The terms of the Treaty of Augusta, signed in 1763 (a corollary to the Treaty of Paris ending the Seven Years War), ceded the Georgia coast, including what is currently St. Marys, GA, from the Creek Indians to the British Crown. Subsequently, the Treaty of 1790 and the Treaty of Colerain (1796) ceded additional lands by the Creek in Georgia and elsewhere to the United States. Consequently, the land from which the Native American human remains were removed is the aboriginal land of Creek peoples, including the Miccosukee Tribe of Indians; Poarch Band of Creeks (previously listed as Poarch Band of Creek Indians of Alabama); Seminole Tribe of Florida (previously listed as Seminole Tribe of Florida (Dania, Big Cypress, Brighton, Hollywood & Tampa Reservations)); The Chickasaw Nation; The Muscogee (Creek) Nation; The Seminole Nation of Oklahoma; and the Thlopthlocco Tribal Town (hereafter referred to as “The Tribes”).

• Pursuant to 43 CFR 10.11(c)(1), the disposition of the human remains may be to The Tribes.

Additional Requestors and Disposition

Representatives of any Indian Tribe or Native Hawaiian organization not identified in this notice that wish to request transfer of control of these human remains should submit a written request with information in support of the request to Dr. John Calabrese, United States Navy, Navy Region Southeast, Naval Air Station Jacksonville, Jacksonville, FL 32212, telephone (904) 542-6985, email john.calabrese@navy.mil, by January 4, 2021. After that date, if no additional requestors have come forward, transfer of control of the human remains to The Tribes may proceed.

The Department of the Navy, Navy Region Southeast is responsible for notifying The Consulted Tribes that this notice has been published.

Dated: November 24, 2020.
Melanie O'Brien,
Manager, National NAGPRA Program.

[FR Doc. 2020-26758 Filed 12-3-20; 8:45 am]

BILLING CODE 4312-52-P